DEPARTMENT OF ENERGY

Agency Information Collection Extension

AGENCY: U.S. Department of Energy.

ACTION: Submission for Office of Management and Budget (OMB) review; comment request.

SUMMARY: The Department of Energy (DOE) has submitted an information collection request to OMB for extension under the provisions of the Paperwork Reduction Act of 1995. The information collection requests a three-year extension of its Security, OMB Control Number 1910-1800. The proposed collection will cover information necessary for DOE management to exercise management oversight and control over their contractors (1) for collection of Foreign Ownership, Control or Influence data from bidders on DOE contracts requiring personnel security clearances; and (2) for individuals who are either in the process of applying for a security clearance/access authorization or who already hold one.

DATES: Comments regarding this collection must be received on or before May 21, 2012. If you anticipate that you will be submitting comments, but find it difficult to do so within that period of time allowed by this notice, please advise the OMB Desk Officer of your intention to make a submission as soon as possible. The Desk Officer may be telephoned at 202-395-4650.

ADDRESSES: Written comments may be sent to the: DOE Desk Officer, Office of Information and Regulatory Affairs, Office of Management and Budget, New Executive Office Building, Room 10102, 735 17th Street NW., Washington, DC 20503 and to Felecia A. Briggs, HS-83/C-412 Germantown Building, U.S. Department of Energy, 1000 Independence Ave SW., Washington, DC 20585-1290 or by fax at 301-903-5492, by email at felecia.briggs@hq.doe.gov, or information about the collection instruments may be obtained at: http://www.hss.doe.gov/pra.html.

FOR FURTHER INFORMATION CONTACT: Requests for additional information or copies of the information collection instrument and instructions should be directed at the addressees listed above in ADDRESSES.

SUPPLEMENTARY INFORMATION: This information collection request contains: (1) OMB No.: 1910-1800; (2) Information Collection Request Title: Security; (3) Type of Review: Renewal; (4) Purpose: The collections are used by DOE to exercise management oversight and control over its contractors that provide goods and services for DOE organizations and activities in accordance with the terms of their contracts and the applicable statutory, regulatory, and mission support requirements of the Department. Information collected is for (1) Foreign Ownership, Control or Influence data from bidders on DOE contracts requiring personnel security clearances; and (2) individuals in the process of applying for a security clearance/access authorization or who already holds one. The collections are: DOE F 5631.34, Data Report on Spouse/Cohabitant; Security Incident Notification Report and Report of Preliminary Security Incident/Infraction; DOE F 471.1 and DOE F 5639.3; DOE F 5631.20, Request for Visitor Access Approval; DOE Form 5631.18, Security Acknowledgement; DOE Form 5631.29, Security Termination Statement; DOE Form 5631.29, Security Termination Statement; DOE Form 5631.5, The Conduct of Personnel Security Interviews; Influence (e-FOCI) System as required by DOE Order 470.4B, Safeguards and Security Program, Section 2; and Foreign Access Central Tracking System (FACTS); (5) Annual Estimated Number of Respondents: 81,669; (6) Annual Estimated Number of Total Responses: 81,669; (7) Annual Estimated Number of Burden Hours: 71,206; (8) Annual Estimated Reporting and Recordkeeping Cost Burden: 0

Statutory Authority: Section 641 of the Department of Energy Organization Act, codified at 42 U.S.C. 7251, and the following additional authorities:

DOE F 5631.34, Data Report on Spouse/Cohabitant: Section 145(b) of the Atomic Energy Act of 1954, as amended, codified at 42 U.S.C. 2165; Executive Order 12968 (August 2, 1995); Executive Order 10865 (February 20, 1960); Executive Order 10450 (April 27, 1953); DOE O 472.2 (July 21, 2011).

Security Incident Notification Report and Report of Preliminary Security Incident/Infraction (DOE F 471.1 and DOE F 5639.3): Executive Order 13526 (December 29, 2009); 32 C.F.R. Part 2001; DOE O 470.4B (July 21, 2011).

DOE F 5631.20, Request for Visitor Access Approval: Section 145(b) of the Atomic Energy Act of 1954, as amended, codified at 42 U.S.C. 2165.

DOE Form 5631.18, Security Acknowledgement: Section 145(b) of the Atomic Energy Act of 1954, as amended, codified at 42 U.S.C. 2165; Executive Order 13526 (December 29, 2009); Executive Order 10865 (Feb. 20, 1960); Executive Order 10450 (April 27, 1953); DOE O 5631.2C (February 17, 1994).

DOE Form 5631.29, Security Termination Statement: Section 145(b) of the Atomic Energy Act of 1954, as amended, codified at 42 U.S.C. 2165; Executive Order 13526 (December 29, 2009); Executive Order 10865 (Feb. 20, 1960); Executive Order 10450 (Apr. 27, 1953); 32 C.F.R. Part 2001; DOE O 472.2 (July 21, 2011).

DOE Form 5631.5, The Conduct of Personnel Security Interviews: 10 C.F.R. Part 710; Executive Order 12968 (Aug. 2, 1995); Executive Order 10450 (April 27, 1953); DOE Order 472.2 (July 21, 2011).

Electronic Foreign Ownership, Control or Influence (e-FOCI) System: Executive Order 12829 (January 6, 1993); DOE O 470.4B (July 21, 2011).

Foreign Access Central Tracking System (FACTS): Presidential Decision Directive 61 (February 1999); DOE O 142.3A (October 14, 2010).

Issued in Washington, DC, on April 11, 2012.
Stephen A. Kirchhoff,
Director, Office of Resource Management, Office of Health, Safety and Security.

[FR Doc. 2012-9428 Filed 4-18-12; 8:45 am]

BILLING CODE 6450-01-P